DEPARTMENT OF ENERGY

Federal Energy Regulatory Commission

[Docket No. CP16-494-000]

Transcontinental Gas Pipe Line Company, LLC; Notice of Schedule for Environmental Review of the Gulf Connector Expansion Project

On August 16, 2016, Transcontinental Gas Pipe Line Company, LLC (Transco) filed an application in Docket No. CP16-494-000 requesting a Certificate of Public Convenience and Necessity pursuant to section 7(c) of the Natural Gas Act to construct and operate certain natural gas pipeline facilities in Wharton, Hardin, San Patricio and Victoria Counties, Texas. The Gulf Connector Expansion Project (Project) would enable 475,000 dekatherms per day of incremental firm natural gas transportation.

On August 25, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, September 21, 2017

90-day Federal Authorization Decision Deadline, December 20, 2017

If a schedule change becomes necessary, additional notice will be provided so that the relevant agencies are kept informed of the Project's progress.

Project Description

Transco proposes to construct new compressor stations in San Patricio, Victoria, and Wharton Counties. The three new compressor stations would total 30,650 horsepower. In addition, there would be modifications to an existing compressor station in Hardin County and modifications to an existing compressor station in Wharton County. Transco would also decommission a compressor station in Refugio County, use the site as a construction storage yard, and construct a new interconnection in San Patricio County.

Background

On September 22, 2016, the Commission issued a Notice of Intent to Prepare an Environmental Assessment for the Proposed Gulf Connector Expansion Project and Request for Comments on Environmental Issues (NOI). The NOI was sent to affected landowners; federal, state, and local government agencies; elected officials; environmental and public interest groups; Native American tribes; other interested parties; and local libraries and newspapers. In response to the NOI, the Commission received a letter from the Texas Parks and Wildlife Department that included several recommendations for mitigating impacts on migratory birds, wildlife, and vegetation.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP16-494), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 14, 2017.
Kimberly D. Bose,
Secretary.

[FR Doc. 2017-15244 Filed 7-19-17; 8:45 am]

BILLING CODE 6717-01-P